DEPARTMENT OF COMMERCE

National Oceanic and Atmospheric Administration

50 CFR Part 622

[I.D. 121200K]

Fisheries of the Caribbean, Gulf of Mexico, and South Atlantic; Shrimp Fishery of the Gulf of Mexico; Public Hearings

AGENCY: National Marine Fisheries Service (NMFS), National Oceanic and Atmospheric Administration (NOAA), Commerce.

ACTION: Notice of public hearings; request for comments.

SUMMARY: The Gulf of Mexico Fishery Management Council (Council) will convene additional public hearings to receive comments on Draft Amendment 11 to the Fishery Management Plan for the Gulf of Mexico Shrimp Fishery (Draft Amendment 11). Public hearings were previously held from Port Isabel, TX to Key West, FL.

DATES: Written comments will be accepted until 5 p.m., January 3, 2001. Public hearings will be held in January: for specific dates and times see SUPPLEMENTARY INFORMATION.

ADDRESSES: Written comments should be sent to, and copies of Draft Amendment 11 are available from, the Gulf of Mexico Fishery Management Council, 3018 U.S. Highway 301, North, Suite 1000, Tampa, FL 33619; telephone: (813)228-2815. Public hearings will be held in Texas, Mississippi, Alabama, Louisiana, and Florida. For specific locations see SUPPLEMENTARY INFORMATION.

FOR FURTHER INFORMATION CONTACT: Dr. Richard Leard, Senior Fishery Biologist, Gulf of Mexico Fishery Management Council; telephone: (813) 228-2815.

SUPPLEMENTARY INFORMATION: The Council held public hearings on Draft Amendment 11 throughout the Gulf of Mexico region from October 2, 2000, through October 26, 2000 (65 FR 57159). The Council will convene additional public hearings to review Draft Amendment 11. Draft Amendment 11 contains alternative measures for requiring shrimp vessel and boat permits, shrimp vessel and boat registration, and operator permits and for prohibiting trap gear in the royal red shrimp fishery in the Gulf exclusive economic zone (EEZ). Shrimp “vessels” refer to fishing craft usually over 5 net tons that carry a certificate-of-documentation issued by the U.S. Coast Guard (USCG); shrimp “boats” refer to fishing craft under 5 net tons that do not carry a USCG certificate-of-documentation but that are issued a number by the appropriate state.

For its initial round of public hearings, it was the Council’s belief that a major difference between vessel/boat permits and registrations, as noted in the earlier hearings, was that permits are subject to law enforcement sanctions, while vessel registrations are not. In a recent review of Draft Amendment 11, NOAA General Counsel determined that if a vessel/boat registration was required as a condition for participating in the shrimp fishery, then such vessel/boat registration is a permit, and would therefore be subject to law enforcement sanctions. This clarification is important because some persons may have previously supported vessel/boat registrations over permits in the belief that the former would not be subject to law enforcement sanctions. Further public hearings have been scheduled to give those persons a chance to change or retract their previous comments and to receive additional comments on a revised Draft Amendment 11.

Dates, Times, and Locations for Public Hearings

Public hearings for Draft Amendment 11 are scheduled as follows:

1. Wednesday, January 3, 2001, 7 p.m.—Laguna Madre Learning Center, Port Isabel High School, Highway 100, Port Isabel, TX 78578; telephone: 956-943-0052;

2. Thursday, January 4, 2001, 7 p.m.—Palacios Recreation Center, 2401 Perryman, Palacios, TX 77465; telephone: 361-972-3821;

3. Monday, January 8, 2001, 6 p.m.—MS Department of Marine Resources, 1141 Bayview Drive, Biloxi, MS 39530; telephone: 228-374-5000;

4. Tuesday, January 9, 2001, 7 p.m.—Bayou LaBatre Community Center, Padgett Switch Road, Bayou La Batre, AL 36509; telephone: 334-824-7918;

5. Wednesday, January 10, 2001, 7 p.m.—New Orleans Airport Hilton, 901 Airline Drive, Kenner, LA 70062; telephone: 504-469-5000; and

6. Wednesday, January 10, 2001, 7 p.m.—Madeira Beach City Hall, 300 Municipal Drive, Madeira Beach, FL 33708; telephone: 727-391-9951.

The Council will also hear public testimony at the January Council Meeting on January 17, 2001, before taking final action on Draft Amendment 11.

Special Accommodations

These meetings are physically accessible to people with disabilities. Requests for sign language interpretation or other auxiliary aids should be directed to Anne Alford at the Council (see ADDRESSES) by December 27, 2000.

Dated: December 15, 2000.
Bruce C. Morehead,
Acting Director, Office of Sustainable Fisheries, National Marine Fisheries Service.

[FR Doc. 00-32724 Filed 12-21-00; 8:45 am]

BILLING CODE 3510-22-S